CHEMICAL SAFETY AND HAZARD INVESTIGATION BOARD

Sunshine Act Meeting

In connection with its investigation into the cause of the vessel failure and fire at the BP Amoco Polymers Plant in Augusta, Georgia on March 13, 2001, the United States Chemical Safety and Hazard Investigation Board announces that it will convene a Public Meeting beginning at 10:00 a.m. local time on May 14, 2002, at 2175 K Street, Suite 400 Conference Room. The Board will also consider adopting final rule implementing Government and Sunshine Act.

The incident left three plant personnel dead. The expulsion of material from the failed vessel initiated a secondary chemical fire that took five hours to bring under control. The incident occurred during maintenance operations on equipment used to produce Amodel, a high-temperature plastic used in automobile parts. Workers were unbolting a one-ton cover plate from a process vessel when the failure occurred. Two workers were killed instantly, and a third was pronounced dead later.

At the meeting CSB staff will present to the Board the results of their investigation into this incident including an analysis of the incident together with a discussion of the key findings and root and contributing causes. The Board will consider carefully the presentations by the staff as it continues its review of the formal staff report.

This period of review will also allow the Board to carefully review all proposed recommendations that may result from this investigation. Recommendations are issued by a vote of the Board and address an identified safety deficiency uncovered during the investigation, and specify how to correct the situation. Safety recommendations are the primary tool used by the Board to motivate implementation of safety improvements and prevent future incidents. The CSB uses its unique independent accident ivestigation perspective to identify trends or issues that might otherwise be overlooked. CSB recommendations may be directed to corporations, trade associations, government entities, safety organizations, labor unions and others. With the issuance of a final report and recommendations, the Board begins the process that promotes saving lives and property.

All staff presentations are preliminary and are intended solely to allow the Board to consider in a public forum the issues and factors involved in this case. No factual analyses, conclusions or findings should be considered final. Only after the Board has considered the staff presentation and thoroughly analyzed, reviewed and approved the staff report will there be an approved final record of this incident.

The meeting will be open to the public. Please notify CSB if a translator or interpreter is needed, 10 business days prior to the public meeting. For more information, please contact the Chemical Safety and Hazard Investigation Board's Office of Prevention Outreach and Policy, (202)-261-7600, or visit our website at: www.csb.gov.

Christopher W. Warner,
General Counsel.

[FR Doc. 02-11287 Filed 5-6-02; 2:06 pm]

BILLING CODE 6350-01-P